DEPARTMENT OF THE INTERIOR

National Park Service

General Management Plan/Draft Environmental Impact Statement, Valley Forge National Historical Park, Pennsylvania

AGENCY: National Park Service, Department of the Interior.

ACTION: Notice of Availability of the Draft Environmental Impact Statement for the General Management Plan, Valley Forge National Historical Park.

SUMMARY: Pursuant to the National Environmental Policy Act of 1969, 42 U.S.C. 4332(2)(C), the National Park Service announces the availability of the Draft General Management Plan and Environmental Impact Statement for Valley Forge National Historical Park, Pennsylvania. An electronic version of the document is currently available for public review on the National Park Service Planning, Environment and Public Comment Web site at http://parkplanning.nps.gov. However, printed copies of the document will not be available until on or about February, 2007.

DATES: The National Park Service will accept comments on the Draft General Management Plan and Environmental Impact Statement from the public for a period of 60 days following publication of the Environmental Protection Agency's Notice of Availability in the Federal Register. Public meetings will be scheduled during the comment period. Interested persons may check the park Web site at http://www.nps.gov/vafo for date, time, and place.

ADDRESSES: Information will be available for public review and comment online at http://parkplanning.nps.gov, at the Valley Forge NHP Welcome Center, 1400 North Outer Line Drive, King of Prussia, Pennsylvania, 610-783-1099 and at the following locations:

Lower Providence Community Library, 50 Parklane Drive, Eagleville, PA 19403-1171.

Tredyffrin Public Library, 582 Upper Gulph Rd., Strafford-Wayne, PA 19087-2052.

Phoenixville Public Library, 183 Second Avenue, Phoenixville, PA 19460.

Montgomery County-Norristown Public Library, 1001 Powell Street, Norristown, PA 19401.

Upper Merion Township Library, 175 West Valley Forge Road, King of Prussia, PA 19406.

FOR FURTHER INFORMATION CONTACT: Deirdre Gibson, Valley Forge NHP, 1400 North Outer Line Drive, King of Prussia, Pennsylvania 19406, Deirdre_gibson@nps.gov.

SUPPLEMENTARY INFORMATION: If you wish to comment, you may submit your comments by any one of several methods. You may mail comments to Superintendent Mike Caldwell, Valley Forge NHP, 1400 North Outer Line Drive, King of Prussia, PA 19406. You may also comment via the Internet at http://parkplanning.nps.gov. If you do not receive a confirmation from the system that we have received your Internet message, contact us directly (Deirdre Gibson, 610-783-1047). Finally, you may hand-deliver comments to Valley Forge NHP, 1400 North Outer Line Drive, King of Prussia, PA 19406. Before including your address, phone number, e-mail address, or other personal identifying information in your comment, you should be aware that your entire comment—including your personal identifying information—may be made publicly available at any time. While you can ask us in your comment to withhold your personal identifying information from public review, we cannot guarantee that we will be able to do so.

Dated: January 22, 2007.
Michael A. Caldwell,
Acting Regional Director, Northeast Region, National Park Service.

[FR Doc. E7-4907 Filed 3-16-07; 8:45 am]

BILLING CODE 4310-DJ-P